DEPARTMENT OF TRANSPORTATION

Surface Transportation Board

[Docket No. FD 35626]

CSX Transportation, Inc.—Trackage Rights Exemption—Norfolk Southern Railway Company

Pursuant to a written trackage rights agreement dated May 18, 2012, Norfolk Southern Railway Company (NSR) has agreed to grant overhead and local trackage rights to CSX Transportation, Inc. (CSXT) over a rail line known as the Pemberton Line, located between milepost WG12.0 near Helen, W. Va., and milepost WG23.6 at Pemberton, W. Va., a distance of approximately 11.6 miles.

The transaction is scheduled to be consummated on August 25, 2012, the effective date of the exemption (30 days after the exemption was filed).

The purpose of the transaction is to permit CSXT to serve all existing and future customers at any point or connection located on the Pemberton Line, including access to and use of NSR's side tracks at Helen, W. Va., and Amigo, W. Va., for use as interchange facilities between NSR and CSXT, including, but not limited to, use of those side tracks with respect to service to East Gulf Mine and other Stone Coal Branch traffic handled by agreement for CSXT by NSR from time to time.¹

¹ In 1995, CSXT leased from NSR the line of railroad between Helen, milepost WG-12.0, and McVey, milepost WG-25.5, a distance of 13.5 miles, including the Pemberton Line. CSX Transp., Inc.—Lease & Operation Exemption—Norfolk & W. Ry., FD 32768 (ICC served Oct. 27, 1995). In its notice, CSXT acknowledges that it retains rights and obligations to provide common carrier service between Helen and McVey until such time as CSXT receives and consummates discontinuance authority from the Board under 49 U.S.C. 10903. CSXT states that it expects to file a petition for exemption to discontinue service between Helen and McVey concurrent with the effective date of this notice.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by August 17, 2012 (at least 7 days before the exemption becomes effective).

An original and 10 copies of all pleadings, referring to Docket No. FD 35626, must be filed with the Surface Transportation Board, 395 E Street SW., Washington, DC 20423-0001. In addition, a copy of each pleading must be served on Louis E. Gitomer, 600 Baltimore Ave., Suite 301, Towson, MD 21204.

Board decisions and notices are available on our Web site at WWW.STB.DOT.GOV.

Decided: August 6, 2012.
By the Board, Rachel D. Campbell, Director, Office of Proceedings.
Jeffrey Herzig,
Clearance Clerk.

[FR Doc. 2012-19643 Filed 8-9-12; 8:45 am]

BILLING CODE 4915-01-P